DEPARTMENT OF ENERGY

Federal Energy Regulatory Commission

Combined Notice of Filings #2

June 9, 2006.

Take notice that the Commission received the following electric corporate filings:

Docket Numbers: EC04-110-000; ER04-847-005.

Applicants: Michigan Electric Transmission Company, LLC.

Description: Michigan Electric Transmission Co LLC submits revisions to its Transmission Ownership and Operating Agreements to comply with Order No. 614.

Filed Date: 6/5/2006.

Accession Number: 20060608-0891.

Comment Date: 5 p.m. Eastern Time on Monday, June 26, 2006.

Docket Numbers: EC06-127-000.

Applicants: The Clark Fork and Blackfoot, L.L.C.; NorthWestern Corporation; NorthWestern Energy Marketing, LLC; Babcock & Brown Infrastructure Limited; BBI U.S. Holdings Pty Ltd; BBI U.S. Holdings II Corp.; BBI Glacier Corp.

Description: Northwestern Corp. et al. submit an application for authorization of the merger of BBI Glacier with and into NorthWestern under Section 203 of the Federal Power Act.

Filed Date: 6/7/2006.

Accession Number: 20060608-0886.

Comment Date: 5 p.m. Eastern Time on Wednesday, June 28, 2006.

Docket Numbers: EC06-129-000.

Applicants: Capital Research and Management Company.

Description: Capital Research and Management Co submits its request for blanket authorization to acquire securities under Section 203 of the Federal Power Act.

Filed Date: 6/1/2006.

Accession Number: 20060608-0888.

Comment Date: 5 p.m. Eastern Time on Thursday, June 22, 2006.

Take notice that the Commission received the following exempt wholesale generator filings:

Docket Numbers: EG06-54-000.

Applicants: LSP Morro Bay, LLC.

Description: LSP Morro Bay, LLC submits a Notice of Self-Certification of Exempt Wholesale Generator Status.

Filed Date: 6/2/2006.

Accession Number: 20060608-0620.

Comment Date: 5 p.m. Eastern Time on Friday, June 23, 2006.

Docket Numbers: EG06-55-000.

Applicants: LSP South Bay, LLC.

Description: LSP South Bay, LLC submits a Notice of Self-Certification of Exempt Wholesale Generator Status.

Filed Date: 6/2/2006.

Accession Number: 20060608-0621.

Comment Date: 5 p.m. Eastern Time on Friday, June 23, 2006.

Docket Numbers: EG06-56-000.

Applicants: Bridgeport Energy LLC.

Description: Bridgeport Energy LLC submits a Notice of Self-Certification of Exempt Wholesale Generator Status.

Filed Date: 6/2/2006.

Accession Number: 20060608-0619.

Comment Date: 5 p.m. Eastern Time on Friday, June 23, 2006.

Docket Numbers: EG06-57-000.

Applicants: LSP Moss Landing, LLC.

Description: LSP Moss Landing, LLC submits a Notice of Self-Certification of Exempt Wholesale Generator Status.

Filed Date: 6/2/2006.

Accession Number: 20060608-0617.

Comment Date: 5 p.m. Eastern Time on Friday, June 23, 2006.

Docket Numbers: EG06-58-000.

Applicants: Griffith Energy, LLC.

Description: Griffith Energy, LLC submits a Notice of Self-Certification of Exempt Wholesale Generator Status.

Filed Date: 6/2/2006.

Accession Number: 20060608-0616.

Comment Date: 5 p.m. Eastern Time on Friday, June 23, 2006.

Docket Numbers: EG06-59-000.

Applicants: LSP Arlington Valley, LLC.

Description: LSP Arlington Valley, LLC submits a Notice of Self-Certification of Exempt Wholesale Generator Status.

Filed Date: 6/2/2006.

Accession Number: 20060608-0615.

Comment Date: 5 p.m. Eastern Time on Friday, June 23, 2006.

Docket Numbers: EG06-60-000.

Applicants: Casco Bay Energy Company, LLC.

Description: Casco Bay Energy Co, LLC submits a Notice of Self-Certification of Exempt Wholesale Generator Status.

Filed Date: 6/2/2006.

Accession Number: 20060608-0613.

Comment Date: 5 p.m. Eastern Time on Friday, June 23, 2006.

Docket Numbers: EG06-61-000.

Applicants: Griffith Energy LLC.

Description: Griffith Energy LLC submits a Notice of Self-Certification of Exempt Wholesale Generator Status.

Filed Date: 6/2/2006.

Accession Number: 20060608-0612.

Comment Date: 5 p.m. Eastern Time on Friday, June 23, 2006.

Take notice that the Commission received the following electric rate filings:

Docket Numbers: ER03-719-002; ER03-720-002; ER03-721-002.

Applicants: New Athens Generating Company, LLC; New Covert Generating Company; New Harquahala Generating Company, LLC.

Description: New Athens Generating Company, LLC et al. submit their updated triennial market power analysis with respect to their authority to make sales at market based rates pursuant to FERC's orders dated 4/14/04 & 7/8/04.

Filed Date: 6/6/2006.

Accession Number: 20060608-0601.

Comment Date: 5 p.m. Eastern Time on Tuesday, June 27, 2006.

Docket Numbers: ER04-449-014.

Applicants: New York Independent System Operator, Inc.

Description: New York Transmission Owners submits its compliance filing pursuant to Commission's Orders issued 8/6/04, 6/2/05 & 5/18/06.

Filed Date: 6/7/2006.

Accession Number: 20060607-5031.

Comment Date: 5 p.m. Eastern Time on Wednesday, June 28, 2006.

Docket Numbers: ER04-449-015.

Applicants: New York Independent System Operator, Inc.

Description: New York Independent System Operator, Inc submits a compliance filing pursuant to Commission's Orders issued 8/6/04, 6/2/05, & 5/5/06 and a motion for a further extension of time.

Filed Date: 6/7/2006.

Accession Number: 20060607-5076.

Comment Date: 5 p.m. Eastern Time on Wednesday, June 28, 2006.

Docket Numbers: ER04-708-001.

Applicants: Horsehead Corp.

Description: Horshead Corp submits its petition for acceptance of its triennial market power analysis and market-based rate compliance filing.

Filed Date: 5/31/2006.

Accession Number: 20060602-0331.

Comment Date: 5 p.m. Eastern Time on Wednesday, June 21, 2006.

Docket Numbers: ER05-1369-005.

Applicants: Cinergy Marketing & Trading, LP.

Description: Cinergy Marketing & Trading, LP submits an amended market based rate tariff and request for expedited treatment.

Filed Date: 6/5/2006.

Accession Number: 20060608-0607.

Comment Date: 5 p.m. Eastern Time on Monday, June 26, 2006.

Docket Numbers: ER06-257-001.

Applicants: Southwest Power Pool, Inc.

Description: Southwest Power Pool Inc submits an amendment to its initial filing in this proceeding on 11/30/05 in accordance with FERC's Letter Order 1/26/06.

Filed Date: 6/6/2006.

Accession Number: 20060608-0604.

Comment Date: 5 p.m. Eastern Time on Tuesday, June 27, 2006.

Docket Numbers: ER06-822-002.

Applicants: Fore River Development, LLC.

Description: Fore River Development, LLC submits its response to FERC's letter dated 5/26/06 providing additional information regarding the need for the proposed Cost of Service Agreement with ISO New England, Inc submitted on 3/31/06.

Filed Date: 6/7/2006.

Accession Number: 20060608-0922.

Comment Date: 5 p.m. Eastern Time on Wednesday, June 21, 2006.

Docket Numbers: ER06-885-001; ER06-885-001.

Applicants: BM2 LLC.

Description: BM2, LLC submits a petition for acceptance of its rate schedule, wavier, and blanket authority and on 6/6/06 amended this rate schedule.

Filed Date: 6/5/2006 & 6/6/2006.

Accession Number: 20060608-0606; 20060608-0892.

Comment Date: 5 p.m. Eastern Time on Tuesday, June 27, 2006.

Docket Numbers: ER06-927-001.

Applicants: BP Energy Company.

Description: BP Energy Co submits an amendment to its proposed revised market-based rate tariff filed 5/2/06.

Filed Date: 6/6/2006.

Accession Number: 20060608-0602.

Comment Date: 5 p.m. Eastern Time on Tuesday, June 27, 2006.

Docket Numbers: ER06-1004-001.

Applicants: Western System Power Pool, Inc.

Description: Old Lane Commodities, LP request FERC to amend the Western System Power Pool Agreement to reflect Old Lane as a WSPP member.

Filed Date: 6/5/2006.

Accession Number: 20060608-0889.

Comment Date: 5 p.m. Eastern Time on Monday, June 26, 2006.

Docket Numbers: ER06-1073-000; ER06-1074-000.

Applicants: LSP Oakland, LLC; LSP South Bay, LLC.

Description: LSP Oakland LLC and LSP South Bay LLC submit a notification to FERC that they have succeeded, solely as a result of a name change, to the Reliability Must-Run Agreement with Duke Energy Oakland LLC and California ISO.

Filed Date: 6/2/2006.

Accession Number: 20060608-0038.

Comment Date: 5 p.m. Eastern Time on Friday, June 23, 2006.

Docket Numbers: ER06-1090-000.

Applicants: Westar Energy, Inc.

Description: Westar Energy Inc submits its Fifth Revised Sheet 11 of Second Revised FERC Rate Schedule 300, Existing Agreement, with Missouri Joint Municipal Electric Utility Commission.

Filed Date: 6/1/2006.

Accession Number: 20060608-0582.

Comment Date: 5 p.m. Eastern Time on Thursday, June 22, 2006.

Docket Numbers: ER06-1091-000.

Applicants: Westar Energy, Inc.

Description: Westar Energy Inc submits its Fourth Revised Sheet 9 of FERC Electric Rate Schedule 302, Existing Agreement, with Missouri Joint Municipal Electric Utility Commission.

Filed Date: 6/1/2006.

Accession Number: 20060608-0581.

Comment Date: 5 p.m. Eastern Time on Thursday, June 22, 2006.

Docket Numbers: ER06-1093-000.

Applicants: Flat Rock Windpower II LLC.

Description: Flat Brock Windpower II LLC submits its petition for order accepting market-based rate schedule for filing and granting waivers and blanket approvals and request for expedited treatment.

Filed Date: 6/2/2006.

Accession Number: 20060608-0622.

Comment Date: 5 p.m. Eastern Time on Friday, June 23, 2006.

Docket Numbers: ER06-1094-001.

Applicants: Western Electricity Coordinating Council.

Description: Western Electricity Coordinating Council submits Request for Waiver of Western Electricity Coordinating Council and Motion to Intervene.

Filed Date: 6/1/2006.

Accession Number: 20060601-5065.

Comment Date: 5 p.m. Eastern Time on Thursday, June 22, 2006.

Docket Numbers: ER06-1094-002.

Applicants: Midwest Independent Transmission System Operator, Inc.

Description: Midwest Independent Transmission System Op. submits a Request for Waiver of Standards and Extension of Time of the Midwest Independent Transmission System Operator, Inc. under ER06-1094.

Filed Date: 6/1/2006.

Accession Number: 20060601-5072.

Comment Date: 5 p.m. Eastern Time on Thursday, June 22, 2006.

Docket Numbers: ER06-1094-003.

Applicants: ISO New England Inc.

Description: ISO New England Inc submits its Request for limited waiver of NAESB WEQ Standards.

Filed Date: 6/1/2006.

Accession Number: 20060608-0584.

Comment Date: 5 p.m. Eastern Time on Thursday, June 22, 2006.

Docket Numbers: ER06-1094-004.

Applicants: New York Independent System Operator, Inc.

Description: New York Independent System Operator, Inc submits its request for waiver of NAESB WEQ business standards.

Filed Date: 6/1/2006.

Accession Number: 20060608-0583.

Comment Date: 5 p.m. Eastern Time on Thursday, June 22, 2006.

Docket Numbers: ER06-1094-006.

Applicants: SOWEGA Power LLC.

Description: SOWEGA Power LLC submits its Requests for waiver of FERC's newly adopted OASIS related standards.

Filed Date: 5/26/2006.

Accession Number: 20060608-0590.

Comment Date: 5 p.m. Eastern Time on Friday, June 16, 2006.

Docket Numbers: ER06-1094-007.

App licants: NorthWestern Corporation.

Description: NorthWestern Corporation submits its requests FERC to grant waiver of the newly adopted OASIS related standards promulgated in Order 676 for its South Dakota operations.

Filed Date: 6/1/2006.

Accession Number: 20060608-0587.

Comment Date: 5 p.m. Eastern Time on Thursday, June 22, 2006.

Docket Numbers: ER06-1097-000.

Applicants: Pacific Gas & Electric Company.

Description: Pacific Gas and Electric Co submits a Notice of Termination of the Control Area and Transmission Service Agreement with Power Exchange Corp.

Filed Date: 6/2/2006.

Accession Number: 20060608-0624.

Comment Date: 5 p.m. Eastern Time on Friday, June 23, 2006.

Docket Numbers: ER06-1098-000.

Applicants: JJR Power LLC.

Description: JJR Power LLC submits a Petition for acceptance of Initial Tariff, Waivers and Blanket Authority & request acceptance of FERC Electric Tariff, Original Volume 1.

Filed Date: 6/5/2006.

Accession Number: 20060608-0610.

Comment Date: 5 p.m. Eastern Time on Monday, June 26, 2006.

Docket Numbers: ER06-1099-000.

Applicants: Midwest Independent Transmission System Operator, Inc.

Description: Midwest Independent Transmission System Operator, Inc submits revisions to its OAT&EM Tariff, FERC Electric Tariff, Volume 1.

Filed Date: 6/5/2006.

Accession Number: 20060608-0609.

Comment Date: 5 p.m. Eastern Time on Monday, June 26, 2006.

Docket Numbers: ER06-1100-000.

Applicants: Golden Spread Electric Cooperative, Inc.

Description: Golden Spread Electric Coop, Inc submits its Sixth Informational Filing setting forth updated fixed cost associated with rates charges for sales of replacement energy pursuant to Rate Schedule 35, Order 614.

Filed Date: 6/5/2006.

Accession Number: 20060608-0608.

Comment Date: 5 p.m. Eastern Time on Monday, June 26, 2006.

Docket Numbers: ER06-1102-000.

Applicants: Central Power Maine Power Company.

Description: Central Maine Power Co's submits a petition to terminate its Executed Interconnection Agreement, Long-Term Pt-to-Pt Transmission Agreement and Unexecuted Local Network Transmission Service Agreement with Androscoggin Energy, LLC.

Filed Date: 6/5/2006.

Accession Number: 20060608-0605.

Comment Date: 5 p.m. Eastern Time on Monday, June 26, 2006.

Docket Numbers: ER06-1103-000; ER06-1104-000; ER06-1105-000; ER06-1106-000; ER06-1107-000; ER06-1108-000; ER06-1109-000; ER06-1110-000; ER06-1111-000.

Applicants: Bridgeport Energy, LLC; Casco Bay Energy Company, LLC; Griffith Energy LLC; LSP Arlington Valley, LLC; LSP Mohave, LLC; LSP Morro Bay, LLC; LSP Moss Landing, LLC; LSP Oakland, LLC; LSP South Bay, LLC.

Description: Bridgeport Energy LLC, Casco Bay Energy Company, LLC et al submit Notices of Succession, revised tariffs, and notices of cancellations.

Filed Date: 6/2/2006.

Accession Number: 20060608-0611.

Comment Date: 5 p.m. Eastern Time on Friday, June 23, 2006.

Docket Numbers: ER06-1112-000.

Applicants: Midwest Independent Transmission System Operator, Inc.

Description: Midwest Independent Transmission System Operator, Inc. submits an informational compliance report which describes the status of efforts to develop a replacement for interim resource adequacy plan.

Filed Date: 6/6/2006.

Accession Number: 20060608-0603.

Comment Date: 5 p.m. Eastern Time on Tuesday, June 27, 2006.

Docket Numbers: ER06-1113-000.

Applicants: Cinergy Marketing & Trading, LP.

Description: Cinergy Marketing & Trading, LP submits amendment to its market-based rate tariff and request for expedited treatment.

Filed Date: 6/5/2006.

Accession Number: 20060608-0558.

Comment Date: 5 p.m. Eastern Time on Monday, June 26, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9406 Filed 6-15-06; 8:45 am]

BILLING CODE 6717-01-P